DEPARTMENT OF COMMERCE

International Trade Administration

[A-533-823; A-834-807; A-307-820]

Silicomanganese From India, Kazakhstan, and Venezuela: Final Results of the Expedited Second Sunset Reviews of the Antidumping Duty Orders

AGENCY: Import Administration, International Trade Administration, Department of Commerce.

DATES: Effective Date: February 7, 2013.

SUMMARY: On October 1, 2012, the Department of Commerce (“Department”) initiated the second sunset reviews of the antidumping duty orders on silicomanganese from India, Kazakhstan, and Venezuela. The Department finds that revocation of these antidumping duty orders would be likely to lead to continuation or recurrence of dumping at the rates identified in the “Final Results of Reviews” section of this notice.

FOR FURTHER INFORMATION CONTACT: Sean Carey, AD/CVD Operations, Office 6, Import Administration, International Trade Administration, U.S. Department of Commerce, 14th Street and Constitution Avenue NW., Washington, DC 20230; telephone (202) 482-3964.

SUPPLEMENTARY INFORMATION:

Background

The antidumping duty orders on silicomanganese from India, Kazakhstan, and Venezuela were published on May 23, 2002. See Notice of Amended Final Determination of Sales at Less than Fair Value and Antidumping Duty Orders: Silicomanganese from India, Kazakhstan, and Venezuela, 67 FR 36149 (May 23, 2002).

On October 1, 2012, the Department initiated the second sunset reviews of these orders, pursuant to section 751(c) of the Tariff Act of 1930, as amended (“the Act”). See Initiation of Five-Year (“Sunset”) Review, 77 FR 59897 (October 1, 2012) (“notice of initiation”). The Department received a notice of intent to participate from the following domestic parties: Eramet Marietta, Inc. and Felman Production, LLC (collectively, “domestic interested parties”), within the deadline specified in 19 CFR 351.218(d)(1)(i). Each of these companies is a manufacturer of a domestic-like product in the United States and, accordingly, is a domestic interested party pursuant to section 771(9)(C) of the Act.

On October 31, 2012, the Department received adequate substantive responses to the notice of initiation from the domestic interested parties within the 30-day deadline specified in 19 CFR 351.218(d)(3)(i). In the sunset review of the antidumping order on silicomanganese from India, we received one response from a respondent interested party, Nava Bharat Ventures Limited (“Nava Bharat”) ¹ on November 7, 2012, and found that Nava Bharat provided an inadequate response because it did not export subject merchandise to the United States over the five calendar years preceding the initiation of this review.² The Department received no responses from other respondent interested parties. On the basis of notices of intent to participate and adequate substantive responses filed on behalf of domestic interested parties, and the inadequate response from the only respondent interested party to have filed a submission, Nava Bharat, the Department has conducted expedited sunset reviews of these orders pursuant to section 751(c)(3)(B) of the Act and 19 CFR 351.218(e)(1)(ii)(C). As a result of these sunset reviews, the Department finds that revocation of the antidumping duty orders is likely to lead to continuation or recurrence of dumping at the rates indicated in the “Final Results of Reviews” section of this notice.

¹ On October 19, 2012, Nava Bharat requested an extension of time to file its substantive response. The Department granted an extension until November 7, 2012.

² See Memorandum from Sunset Team to Barbara E. Tillman, Director, Office of AD/CVD Operations 6 regarding “Sunset Review of the Antidumping Duty Order on Silicomanganese from India: Adequacy Determination,” dated November 23, 2012.

Scope of the Orders

For purposes of these orders, the products covered are all forms, sizes and compositions of silicomanganese, except low-carbon silicomanganese, including silicomanganese briquettes, fines and slag. Silicomanganese is a ferroalloy composed principally of manganese, silicon and iron, and normally contains much smaller proportions of minor elements, such as carbon, phosphorous and sulfur. Silicomanganese is sometimes referred to as ferrosilicon manganese. Silicomanganese is used primarily in steel production as a source of both silicon and manganese. Silicomanganese generally contains by weight not less than 4 percent iron, more than 30 percent manganese, more than 8 percent silicon and not more than 3 percent phosphorous. Silicomanganese is properly classifiable under subheading 7202.30.0000 of the Harmonized Tariff Schedule of the United States (“HTSUS”). Some silicomanganese may also be classified under HTSUS subheading 7202.99.5040.

The low-carbon silicomanganese excluded from this scope is a ferroalloy with the following chemical specifications: Minimum 55 percent manganese, minimum 27 percent silicon, minimum 4 percent iron, maximum 0.10 percent phosphorus, maximum 0.10 percent carbon and maximum 0.05 percent sulfur. Low-carbon silicomanganese is used in the manufacture of stainless steel and special carbon steel grades, such as motor lamination grade steel, requiring a very low carbon content. It is sometimes referred to as ferromanganese-silicon. Low-carbon silicomanganese is classifiable under HTSUS subheading 7202.99.5040.

This scope covers all silicomanganese, regardless of its tariff classification. Although the HTSUS subheadings are provided for convenience and customs purposes, our written description of the scope remains dispositive.

Analysis of Comments Received

All issues raised in these reviews are addressed in the Issues and Decision Memorandum (“Decision Memorandum”) from Christian Marsh, Deputy Assistant Secretary for Antidumping and Countervailing Duty Operations, to Paul Piquado, Assistant Secretary for Import Administration, dated January 31, 2013, which is hereby adopted by this notice. The issues discussed in the Decision Memorandum include the likelihood of continuation or recurrence of dumping and the magnitude of the margins of dumping likely to prevail if the orders were revoked. Parties can find a complete discussion of all issues raised in these reviews and the corresponding recommendations in this public memorandum, which is on file electronically via Import Administration's Antidumping and Countervailing Duty Centralized Electronic Service System (“IA ACCESS”). IA ACCESS is available to registered users at http://iaaccess.trade.gov and is available to all parties in the Central Records Unit in room 7046 of the main Commerce building. In addition, a complete version of the Decision Memorandum can be accessed directly on the Internet at http://ia.ita.doc.gov/frn/. The signed Decision Memorandum and electronic versions of the Decision Memorandum are identical in content.

Final Results of Reviews

Pursuant to sections 752(c)(1) and (3) of the Act, we determine that revocation of the antidumping duty orders on silicomanganese from India, Kazakhstan, and Venezuela would be likely to lead to continuation or recurrence of dumping, and that the magnitude of the margins of dumping likely to prevail if the order were revoked are as follows:

Exporters/producers | Rate (percent)
India
Nava Bharat Ventures, Ltd. | 15.32
Universal Ferro and Allied Chemicals, Ltd. | 20.53
All Others Rate | 17.74
Kazakhstan
Alloy 2000, S.A. | 247.88
Kazakhstan-Wide Rate | 247.88
Venezuela
Hornos Eléctricos de Venezuela, S.A. | 24.62
All Others Rate | 24.62

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(c), and 777(i)(1) of the Act.

Dated: January 31, 2013.
Paul Piquado,
Assistant Secretary for Import Administration.

[FR Doc. 2013-02822 Filed 2-6-13; 8:45 am]

BILLING CODE 3510-DS-P